DEPARTMENT OF DEFENSE

Office of the Secretary

Renewal of Department of Defense Federal Advisory Committees

AGENCY: Department of Defense (DoD).

ACTION: Renewal of Federal advisory committee.

SUMMARY: Under the provisions of the Federal Advisory Committee Act of 1972, (5 U.S.C. Appendix, as amended), the Government in the Sunshine Act of 1976 (5 U.S.C. 552b, as amended), and 41 CFR 102-3.50, the Department of Defense gives notice that it is renewing the charter for the Defense Task Force on Sexual Assault in the Military Services (hereafter referred to as the Task Force).

FOR FURTHER INFORMATION CONTACT: Jim Freeman, Deputy Committee Management Officer for the Department of Defense, 703-601-6128.

SUPPLEMENTARY INFORMATION: The Task Force, pursuant to Section 576 of Public Law 108-375, is a non-discretionary Federal advisory committee established to conduct an examination of matters relating to sexual assault by members or against members of the Armed Forces of the United States.

Pursuant to Section 576(e) of public Law 108-375, the Task Force, no later than one year after the initiation of its examination, shall submit to the Secretary of Defense and the Secretaries of the Army, Navy and Air Force on the activities of the Department of Defense and the Armed Forces to respond to sexual assault.

The Task Force shall be comprised of no more than ten members and the membership shall be comprised of an equal number of DoD and civilian members.

The Secretary of Defense shall select the DoD Co-Chairperson, and the civilian members shall select a civilian Co-Chairperson.

Task Force members who are appointed by the Secretary of Defense, who are not full-time or permanent part-time Federal employees, shall be appointed as experts and consultants under the authority of 5 U.S.C. 3109 and serve as Special Government Employees. All members shall be appointed on an annual basis for the duration of the Task Force.

Task Force members who are Federal officers or employees shall serve without compensation (other than compensation to which they are entitled to as Federal officers or employees).

Other Task Force members shall be appointed under the authority of 5 U.S.C 3161 and will receive compensation for their service. All Task Force members shall receive compensation for travel and per diem for official Task Force travel.

With DoD approval, the Task Force is authorized to establish subcommittees, as necessary and consistent with its mission. These subcommittees or working groups shall operate under the provisions of the Federal Advisory Committee Act of 1972, the Government in the Sunshine Act of 1976 (5 U.S.C 552B, as amended), and other appropriate Federal regulations.

Such subcommittees or workgroups shall not work independently of the chartered Task Force, and shall report all their recommendations and advice to the Task Force for full deliberation and discussion. Subcommittees or workgroups have no authority to make decisions on behalf of the chartered Task Force nor can they report directly to the Department of Defense or any Federal officers or employees who are not Task Force members.

Subcommittee members, who are not Task Force members, shall be appointed in the same manner as the Task Force members.

The Task Force shall meet at the call of the Task Force's Designated Federal Officer, in consultation with the Chairperson. The estimated number of Task Force meetings is six per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Defense Task Force on Sexual Assault in the Military Services membership about the Task Forces' mission and functions. Written statements may be submitted at any time or in response to the stated agenda of planned meeting of the Defense Task Force on Sexual Assault in the Military Services.

All written statements shall be submitted to the Designated Federal Officer for the Defense Task Force on Sexual Assault in the Military Services, and this individual will ensure that the written statements are provided to the membership for their consideration. Contact information for Defense Task Force on Sexual Assault in the Military Services' Designated Federal Officer can be obtained from the GSA's FACA Database— https://www.fido.gov/facadatabase/public.asp.

The Designated Federal Officer, pursuant to 41 CFR 102-3.150, will announce planned meetings of the Defense Task Force on Sexual Assault in the Military Services. The Designated Federal Officer, at that time, may provide additional guidance on the submission of written statements that are in response to the stated agenda for the planned meeting in question.

Dated: September 28, 2009.
Patricia L. Toppings,
OSD Federal Register Liaison Officer, Department of Defense.

[FR Doc. E9-23739 Filed 9-30-09; 8:45 am]

BILLING CODE 5001-06-P